DEPARTMENT OF ENERGY

Federal Energy Regulatory Commission

Combined Notice of Filings #1

Take notice that the Commission received the following electric corporate filings:

Docket Numbers: EC12-44-000.

Applicants: ITC Midwest LLC.

Description: Section 203 Application of ITC Midwest LLC.

Filed Date: 12/6/11.

Accession Number: 20111206-5159.

Comments Due: 5 p.m. ET 12/27/11.

Take notice that the Commission received the following exempt wholesale generator filings:

Docket Numbers: EG12-18-000.

Applicants: CPV Cimarron Renewable Energy Company LL.

Description: Self-Certification as EWG of CPV Cimarron Renewable Energy Company LLC.

Filed Date: 12/6/11.

Accession Number: 20111206-5096.

Comments Due: 5 p.m. ET 12/27/11.

Take notice that the Commission received the following electric rate filings:

Docket Numbers: ER10-2835-001.

Applicants: Google Energy LLC.

Description: Notice of Change of Status of Google Energy LLC.

Filed Date: 12/6/11.

Accession Number: 20111206-5166.

Comments Due: 5 p.m. ET 12/27/11.

Docket Numbers: ER10-2964-002; ER10-2959-002.

Applicants: Selkirk Cogen Partners, L.P., Chambers Cogeneration, Limited Partnership.

Description: Notice of Non-Material Change in Status (Chambers and Selkirk).

Filed Date: 12/6/11.

Accession Number: 20111206-5072.

Comments Due: 5 p.m. ET 12/27/11.

Docket Numbers: ER12-85-001.

Applicants: Owens Corning Sales, LLC.

Description: Owens Corning Rate Schedule FERC No. 1 Amendment to be effective 12/6/2011.

Filed Date: 12/6/11.

Accession Number: 20111206-5043.

Comments Due: 5 p.m. ET 12/27/11.

Docket Numbers: ER12-551-000.

Applicants: Westar Energy, Inc.

Description: Compliance Filing, Schedule 3A, Generator Regulation & Frequency Response Svc to be effective 12/25/2011.

Filed Date: 12/6/11.

Accession Number: 20111206-5001.

Comments Due: 5 p.m. ET 12/27/11.

Docket Numbers: ER12-554-000.

Applicants: Alabama Power Company.

Description: Greenway Renewable Power LGIA Filing to be effective 11/28/2011.

Filed Date: 12/6/11.

Accession Number: 20111206-5079.

Comments Due: 5 p.m. ET 12/27/11.

Docket Numbers: ER12-555-000.

Applicants: Midwest Independent Transmission System Operator, Inc.

Description: G427 LGIA Termination to be effective 2/5/2012.

Filed Date: 12/6/11.

Accession Number: 20111206-5091.

Comments Due: 5 p.m. ET 12/27/11.

Docket Numbers: ER12-556-000.

Applicants: California Independent System Operator Corporation.

Description: 2011-12-06 LGIA between CAISO, SDGE and C SOLAR to be effective 10/22/2011.

Filed Date: 12/6/11.

Accession Number: 20111206-5095.

Comments Due: 5 p.m. ET 12/27/11.

Docket Numbers: ER12-557-000.

Applicants: Southwest Power Pool, Inc.

Description: 1636R6 Kansas Electric Power Cooperative, Inc. NITSA NOA to be effective 10/1/2011.

Filed Date: 12/6/11.

Accession Number: 20111206-5110.

Comments Due: 5 p.m. ET 12/27/11.

Take notice that the Commission received the following electric securities filings:

Docket Numbers: ES12-7-000.

Applicants: Westar Energy, Inc.

Description: Application of Westar Energy, Inc. for an Order authorizing the issuance and pledge of securities under Section 204 of the Federal Power Act.

Filed Date: 12/6/11.

Accession Number: 20111206-5151.

Comments Due: 5 p.m. ET 12/27/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs=filing/efiling/filing=req.pdf. For other information, call (866) 208-3676 (toll free). For TTY, call (202) 502-8659.

Dated: December 7, 2011.
Nathaniel J. Davis, Sr.,
Deputy Secretary.

[FR Doc. 2011-32151 Filed 12-14-11; 8:45 am]

BILLING CODE 6717-01-P